DEPARTMENT OF COMMERCE

National Oceanic and Atmospheric Administration

50 CFR Part 300

[Docket No. 020131023-2056-02; I.D. 091002F]

Pacific Halibut Fisheries; Oregon Sport Fisheries

AGENCY: National Marine Fisheries Service (NMFS), National Oceanic and Atmospheric Administration (NOAA), Commerce.

ACTION: Inseason action; request for comments.

SUMMARY: NMFS announces changes to the regulations for the Area 2A sport halibut fisheries off the central coast of Oregon. This action opens the all-depth sport halibut fisheries off the central Oregon coast for additional days on September 18 and 19. The intention of this action is to give Oregon anglers access to remaining 2002 halibut quota before the closure of West Coast sport halibut fisheries on September 30, 2002.

DATES: Effective 0001 local time, September 13, 2002, through the Federal Register publication of the 2003 specification management measures. Comments on this rule will be accepted through October 3, 2002.

ADDRESSES: Submit comments to D. Robert Lohn, Regional Administrator, Northwest Region, NMFS, 7600 Sand Point Way NE, Seattle, WA 98115-0070. This Federal Register document is available on the Government Printing Office's website at: http://www.access.gpo.gov/su_docs/aces/aces140.html.

FOR FURTHER INFORMATION CONTACT: Yvonne deReynier or Jamie Goen (NMFS, Northwest Region), 206-526-6140.

SUPPLEMENTARY INFORMATION: The Area 2A Catch Sharing Plan (Plan) for Pacific halibut off Washington, Oregon, and California was implemented for 2002 via final rule on March 20, 2002 (67 FR 12885). Those regulations established the 2002 combined north central and south central Oregon subquota for all-depth sport fisheries at 229,103 lb (104 mt) This fishery is managed with two main all-depth openings in May and in August, with subquotas for the separate openings. If the main May all-depth opening does not take all of the halibut set aside for that opening, NMFS coordinates with the Oregon Department of Fish and Wildlife (ODFW) and with the International Pacific Halibut Commission (IPHC) to reopen the fishery in May and June on pre-determined days. Any May all-depth quota that is not taken in the main May opening or in subsequent May-June openings is held for use in the August all-depth fishery. If the main August all-depth opening does not take all of the halibut set aside for that fishery, NMFS again coordinates with ODFW and IPHC to reopen the fishery in August and September on pre-determined days. For 2002, the Plan's final rule set pre-determined additional opening days for August-September on August 23-24 and on September 20-21.

Oregon central coast sport halibut landings have proceeded at an unusually slow pace in 2002. Participating anglers and charterboat operators attribute the decreased fishery participation to both bad weather days and to a lower nation-wide public interest in recreational traveling. The May all-depth fisheries took approximately 126,255 lb (57 mt) which is 45,189 lb (21 mt) below the 171,444 lb (78 mt) of halibut available for these fisheries.

The halibut quota not taken in the main May all-depth opening and the subsequent May-June all-depth reopenings was made available to the August all-depth opening, increasing the pre-season August all-depth quota from 57,660 lb (26 mt) to 102,949 lb (46.7 mt). The main August all-depth opening was held on August 2 and 3. Because this main opening again did not take the quota available to the August-September all-depth fisheries, NMFS conferred with ODFW and IPHC and re-opened the fishery on the pre-determined reopening dates of August 23-24.

In reviewing Oregon central coast sport halibut landings through the August 23-24 fishery, ODFW alerted NMFS and IPHC that an additional 39,732 lb (18 mt) of halibut remained in the all-depth quota. In addition, the state agency also reported that the Oregon central coast nearshore fishery had taken just 2,017 lb (0.9 mt) of its 19,797 lb (9.0 mt) quota through the end of August.

NMFS reviewed the Plan, the 2002 halibut fishery regulations, and central Oregon landings through the end of August with ODFW and IPHC via telephone conference on August 30, 2002. Under the Plan, NMFS may move halibut quota from the nearshore fishery to the all-depth fishery if it appears unlikely that the nearshore fishery will use all of its quota before the season closure on September 30. Also under paragraph (f)(5) of the Plan, “Flexible Inseason Management Measures,” NMFS may take inseason action to revise or add fishing season dates if the action is necessary to allow allocation objectives to be met, and if the action will not result in exceeding the catch limit for the area.

In reviewing available halibut quota from the nearshore and all-depth fisheries and landings patterns in the all-depth fisheries for 2002, NMFS, ODFW, and the IPHC determined that both the all-depth fishery and the nearshore fishery landings for 2002 would likely be well below their quotas without additional inseason measures to allow all-depth fishing beyond the pre-determined reopening dates of September 20 and 21. In conferring, the agencies agreed that by shifting 15,000 lb (6.8 mt) of quota from the nearshore fishery to the all-depth fishery, adequate quota would remain available to the nearshore fishery for the remainder of the 2002 season. The agencies also agreed that by adding 15,000 lb (6.8 mt) to the halibut available to the all-depth fishery for a total of 54,732 lb (24.8 mt,) sufficient quota would be available to provide additional all-depth opening dates. The all-depth halibut fishery is expected to take approximately 10,000 lb (4.5 mt) to 12,000 lb (5.4 mt) per day.

NMFS discussed potential additional opening dates with ODFW and IPHC and determined that re-opening the fishery for 4 consecutive days, September 18-21, would be preferable to re-opening on the pre-determined dates of September 20-21 and then again on the following weekend of September 27-28. Oregon's recreational hunting season opens the last weekend of September and many of the persons who would normally participate in recreational halibut fisheries are expected to also participate in the start of the hunting season. NMFS determined that allowing additional all-depth opportunities for the purpose of maximizing angler access to the quota would be best accomplished by providing additional opening dates prior to the start of the Oregon hunting season.

To meet the objectives of the Plan and for the reasons stated above, NMFS has determined that an inseason management action is needed to provide additional opening dates for the Oregon central coast all-depth sport halibut fishery on September 18 and 19, 2002. This inseason action would set the final all-depth opportunity for Oregon central coast sport halibut fishing for September 18-21.

NMFS Action

For the reasons stated above, NMFS announces the following change to the 2002 Pacific halibut management measures (67 FR 12885, March 20, 2002).

1. On page 12895, in section 24. Sport Fishing for Halibut, paragraph (4)(b)(v)(A)(3) is revised to read as follows:

24. Sport Fishing for Halibut

* * * * *

(4) * * *

(b) * * *

(v) * * *

(A) * * *

(3) The third season is open on August 2 and/or 3 or until the combined quotas for the all-depth fisheries in the subareas described in paragraphs (v) and (vi) of this section totaling 229,103 lb (103.9 mt) are estimated to have been taken and the area is closed by the Commission, whichever is earlier. An inseason announcement will be made in mid-July as to whether the fishery will be open on August 2 and/or 3. If the harvest during this opening does not achieve the 229,103 lb (103.9 mt) quota, the season will reopen. Season reopening dates are August 23, 24, and September 18-21. If a decision is made inseason to allow fishing on one or more of these dates, notice of the reopening date will be announced on the NMFS hotline (206) 526-6667 or (800) 662-9825.

* * * * *

2. On page 12896, in section 24. Sport Fishing for Halibut, paragraph (4)(b)(vi)(A)(3) is revised to read as follows:

24. Sport Fishing for Halibut

* * * * *

(4) * * *

(b) * * *

(vi) * * *

(A) * * *

(3)The third season is open on August 2 and/or 3 or until the combined quotas for the all-depth fisheries in the subareas described in paragraphs (v) and (vi) of this section totaling 229,103 lb (103.9 mt) are estimated to have been taken and the area is closed by the Commission, whichever is earlier. An inseason announcement will be made in mid-July as to whether the fishery will be open on August 2 and/or 3. If the harvest during this opening does not achieve the 229,103 lb (103.9 mt) quota, the season will reopen. Season reopening dates are August 23, 24, and September 18-21. If a decision is made inseason to allow fishing on one or more of these dates, notice of the reopening date will be announced on the NMFS hotline (206) 526-6667 or (800) 662-9825.

* * * * *

Classification

This action is authorized by the regulations implementing the Area 2A Pacific Halibut Catch Sharing Plan. The determination to take these actions is based on the most recent data available. The Assistant Administrator for Fisheries, NOAA (AA), has determined that good cause exists for this document to be published without affording a prior opportunity for public comment under 5 U.S.C. 553(b)(B) because doing so would be impracticable and contrary to the public interest. Providing prior notice and opportunity for public comment would be impracticable because it would delay action beyond the September 30, 2002, closure of West Coast sport halibut fisheries. Providing prior notice for public comment would be contrary to the public interest because it would prevent the Oregon sport fisheries from having access to remaining halibut quota available off the central Oregon coast. For the above reasons, the AA has also determined that good cause exists to waive the delay of effectiveness of this action under 5 U.S.C. 553(d)(3).

Public comments will be received for a period of 15 days after the effectiveness of this action. This action is authorized by section 25 of the annual management measures for Pacific halibut fisheries published on March 20, 2002 (67 FR 12885), and has been determined to be not significant for purposes of Executive Order 12866.

Authority: 16 U.S.C. 773-773k.

Dated: September 13, 2002
John H. Dunnigan
Director, Office of Sustainable Fisheries, National Marine Fisheries Service.

[FR Doc. 02-23738 Filed 9-13-02; 4:27 pm]

BILLING CODE 3510-22-S